Title 3—

The President

Executive Order 13436 of June 28, 2007

Further Amending Executive Order 13381, as Amended, To Extend Its Duration by One Year

By the authority vested in me as President by the Constitution and the laws of the United States of America, and in order to extend by 1 year the duration of Executive Order 13381 of June 27, 2005 (Strengthening Processes Relating to Determining Eligibility for Access to Classified National Security Information), as amended, it is hereby ordered that:

Section 1. Section 6(a) of Executive Order 13381, as amended, is further amended by striking “April 1, 2007” and inserting in lieu thereof “April 1, 2008”.

Sec. 2. Section 6(b) of Executive Order 13381, as amended, is further amended by striking “July 1, 2007” and inserting in lieu thereof “July 1, 2008”.

THE WHITE HOUSE,

June 28, 2007.

[FR Doc. 07-3258

Filed 7-2-07; 8:45 am]

Billing code 3195-01-P